INTERNATIONAL TRADE COMMISSION

[Investigation Nos. 731-TA-1387-1391 (Final) (Remand)]

Polyethylene Terephthalate Resin from Brazil, Indonesia, Korea, Pakistan, and Taiwan

AGENCY: United States International Trade Commission.

ACTION: Notice of remand proceedings.

SUMMARY: The U.S. International Trade Commission (“Commission”) hereby gives notice of the procedures it intends to follow to comply with the court-ordered remand of its final determinations in the antidumping duty investigations of polyethylene terephthalate resin (“PET resin”) from Brazil, Indonesia, Korea, Pakistan, and Taiwan. For further information concerning the conduct of these remand proceedings and rules of general application, consult the Commission's Rules of Practice and Procedure.

DATES: July 6, 2020.

FOR FURTHER INFORMATION CONTACT: Mary Messer ((202) 205-3193), Office of Investigations, or Brian Allen ((202) 205-3034), Office of General Counsel, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (Error! Hyperlink reference not valid. https://www.usitc.gov). The public record for Investigation Nos. 731-TA-1387-1391 (Final) may be viewed on the Commission's electronic docket (EDIS) at https://edis.usitc.gov.

SUPPLEMENTARY INFORMATION: Background.— In October 2018, the Commission determined that an industry in the United States was not materially injured or threatened with material injury by reason of imports of PET resin from Brazil, Indonesia, Korea, Pakistan, and Taiwan that were sold in the United States at less than fair value. Polyethylene Terephthalate Resin from Brazil, Indonesia, Korea, Pakistan, and Taiwan, Inv. Nos. 731-TA-1387-1391 (Final), USITC Pub. 4835 (November 2018). Petitioners contested the Commission's determinations before the U.S. Court of International Trade (“CIT”). The CIT remanded for reconsideration of the Commission's analysis of price effects and impact. DAK Americas LLC, Indorama Ventures USA, Inc., and Nan Ya Plastics Corporation, America v. United States, Slip Op. 20-80 (Ct. Int'l Trade, June 4, 2020).

Participation in the remand proceedings.— Only those persons who were interested parties that participated in the investigations (i.e., persons listed on the Commission Secretary's service list) and were also parties to the appeal may participate in the remand proceedings. Such persons need not file any additional appearances with the Commission to participate in the remand proceedings, unless they are adding new individuals to the list of persons entitled to receive business proprietary information (“BPI”) under administrative protective order. BPI referred to during the remand proceedings will be governed, as appropriate, by the administrative protective order issued in the investigations. The Secretary will maintain a service list containing the names and addresses of all persons or their representatives who are parties to the remand proceedings, and the Secretary will maintain a separate list of those authorized to receive BPI under the administrative protective order during the remand proceedings.

Written submissions.—The Commission is not reopening the record and will not accept the submission of new factual information for the record. The Commission will permit the parties to file comments concerning how the Commission could best comply with the Court's remand instructions.

The comments must be based solely on the information in the Commission's record. The Commission will reject submissions containing additional factual information or arguments pertaining to issues other than those on which the Court has remanded this matter. The deadline for filing comments is July 20, 2020. Comments must be limited to no more than twenty-five (25) double-spaced and single-sided pages of textual material, inclusive of attachments and exhibits.

Parties are advised to consult with the Commission's Rules of Practice and Procedure, part 201, subparts A through E (19 CFR part 201), and part 207, subpart A (19 CFR part 207) for provisions of general applicability concerning written submissions to the Commission. All written submissions must conform to the provisions of § 201.8 of the Commission's rules; any submissions that contain BPI must also conform with the requirements of §§ 201.6, 207.3, and 207.7 of the Commission's rules. Please note the Secretary's Office will accept only electronic filings at this time. Filings must be made through the Commission's Electronic Document Information System (EDIS, https://edis.usitc.gov). No in-person paper-based filings or paper copies of any electronic filings will be accepted until further notice. The Commission's Handbook on E-Filing, available on the Commission's website at http://edis.usitc.gov, elaborates upon the Commission's rules with respect to electronic filing.

Additional written submissions to the Commission, including requests pursuant to § 201.12 of the Commission's rules, will not be accepted unless good cause is shown for accepting such submissions or unless the submission is pursuant to a specific request by a Commissioner or Commission staff.

In accordance with §§ 201.16(c) and 207.3 of the Commission's rules, each document filed by a party to the investigation must be served on all other parties to the investigation (as identified by either the public or BPI service list), and a certificate of service must be timely filed. The Secretary will not accept a document for filing without a certificate of service.

By order of the Commission.
Issued: July 6, 2020.
William Bishop,
Supervisory Hearings and Information Officer.

[FR Doc. 2020-14850 Filed 7-9-20; 8:45 am]

BILLING CODE 7020-02-P